DEPARTMENT OF DEFENSE

Department of the Army

Notice of Availability of a Draft Environmental Impact Statement (DESI) for Base Realignment and Closure (BRAC) Actions at Fort Sam Houston, TX

AGENCY: Department of the Army, DoD.

ACTION: Notice of Availability (NOA).

SUMMARY: The Department of the Army announces the availability of a DEIS which evaluates the potential environmental impacts associated with realignment actions directed by the BRAC Commission and Army Modular Force (AMF) transformation activities at Fort Sam Houston (FSH), Texas and Camp Bullis, Texas.

DATES: The public comment period for the DEIS will end 45 days after publication of this NOA in the Federal Register by the Environmental Protection Agency.

ADDRESSES: Please send written comments on the DEIS to: Mr. Phil Reidinger, Fort Sam Houston, Public Affairs Office, Building 124, 1212 Stanley Road, Fort Sam Houston, TX 78234, or via e-mail at Phillip.Reidinger@samhouston.army.mil.

FOR FURTHER INFORMATION CONTACT: Mr. Phil Reidinger at (210) 221-1151 during normal business hours Monday through Friday.

SUPPLEMENTARY INFORMATION: The Proposed Action and subject of the DEIS covers the construction and renovation activities, and movement of personnel associated with the BRAC-directed realignment of FSH. The DEIS also covers those AMF transformation activities that would occur at FSH at the same time that the BRAC action is being implemented.

To implement these actions, FSH would be receiving personnel, equipment, and missions from various realignment and closure actions within the DoD. The Army would provide the necessary facilities/buildings and infrastructure to support the changes in force structure. Permanent facilities would be constructed or renovated to house the 470th Military Intelligence (MI) Brigade (BDE) and various Headquarters (HQ) units of the new Army North (ARNORTH) and Sixth Army, which are currently located in a mix of temporary and existing facilities.

These actions would impact several areas at the installation, as well as specific field training areas on Camp Bullis. The buildup of facilities and personnel would be concentrated in four mission-related subareas at FSH and the training area at Camp Bullis.

Alternatives analyzed in the EIS include: (1) The Preferred Realignment Alternative and (2) a No Action Alternative. The Preferred Realignment Alternative includes construction, renovation, and operation of proposed facilities to accommodate incoming military missions at FSH as mandated by the 2005 BRAC recommendations and AMF actions. Minor alternative siting variations of proposed facilities were also evaluated.

The DEIS analyses indicate that implementation of the preferred alternative would have no long-term, significant impacts on the environmental resources of FSH, Camp Bullis or their surrounding areas. Potential significant impacts to aesthetics and historic district viewscapes from implementation of the preferred alternative would be mitigated through strict adherence to procedures identified in the FSH Installation Design Guide, Landscape Design Guide, and Historic Properties Component of the Integrated Cultural Resources Management Plan. No long-term significant impacts to earth (geology, topography, caves, karst features or soils) or wetlands are expected at either installation. Minor land use impacts would be expected at FSH. Use of utilities and generation of hazardous and non-hazardous wastes would likely increase at both installations, but not in significant amounts. Cultural resources would be impacted with the removal or renovation of existing facilities on FSH, some of which are potentially eligible for registration as historic properties. Minor air, noise, and transportation impacts would also occur during short-term construction activities under the preferred alternative at both installations and continue after final construction and occupancy. No significant impacts to biological resources (vegetation, wildlife and threatened and endangered species) are expected from the implementation of the preferred alternative. Alternative siting variations would result in impacts and benefits similar to those of the preferred alternative. The no action alternative provides the baseline conditions for comparison to the preferred alternative.

The Army invites the general public, local governments, other Federal and state agencies to submit written comments or suggestions concerning the alternatives and analyses addressed in the DEIS. The public and government agencies are invited to participate in a public meeting where oral and written comments and suggestions will be received. The public meeting will be held on October 24, 2006 from 7 p.m. to 9 p.m. at St. Patrick's Church, 1801 IH-35 North, San Antonio, Texas.

An electronic version of the DEIS can be viewed or downloaded from the following URL: http://www.hqda.army.mil/acsim/brac/nepa_eis_docs.htm.

Dated: September 27, 2006.
Addison D. Davis, IV,
Deputy Assistant Secretary of the Army (Environment, Safety and Occupational Health).

[FR Doc. 06-8441 Filed 10-2-06; 8:45 am]

BILLING CODE 3710-08-M